COMMODITY FUTURES TRADING COMMISSION

CFTC 2022-2026 Strategic Plan

AGENCY: Commodity Futures Trading Commission.

ACTION: Request for public comment.

SUMMARY: The Commodity Futures Trading Commission (CFTC or Commission) is providing notice that it is seeking public comments on its draft 2022-2026 Strategic Plan. This Commission-approved version of the Strategic Plan includes the CFTC's mission, strategic goals, and strategic objectives.

DATES: Comments must be submitted on or before May 2, 2022.

ADDRESSES: Comments may be submitted by any of the following methods:

Electronic Comments: Send an email to: StrategicPlan@cftc.gov.

Paper Comments: Send paper comments to David Frederickson, Strategic Planning Officer, Commodity Futures Trading Commission, Three Lafayette Centre, 1155 21st Street NW, Washington, DC 20581.

Instructions: All submissions must include CFTC's agency name and the words “CFTC 2022-2026 Strategic Plan.” All comments, including attachments and other supporting materials, will become part of the public record and subject to public disclosure. Comments may be posted on CFTC's website, https://comments.cftc.gov. Sensitive personal information, such as account numbers or Social Security numbers, should not be included. You should submit only information that you wish to make available publicly. The Commission reserves the right, but shall have no obligation, to review, pre-screen, filter, redact, refuse or remove any or all of your submission that it may deem to be inappropriate for publication, such as obscene language or any identifying or contact information.

FOR FURTHER INFORMATION CONTACT: David Frederickson, Manager, Strategic and Operational Planning, at (202) 418-5218, or email: DFrederickson@cftc.gov.

SUPPLEMENTARY INFORMATION: The draft strategic plan is available at the Commission's website at https://www.cftc.gov/media/7081/CFTC2022_2026StrategicPlan/download.

Issued in Washington, DC, on March 28, 2022, by the Commission.
Robert Sidman,
Deputy Secretary of the Commission.

[FR Doc. 2022-06867 Filed 3-31-22; 8:45 am]

BILLING CODE 6351-01-P